DEPARTMENT OF COMMERCE

National Oceanic and Atmospheric Administration

Agency Information Collection Activities; Submission to the Office of Management and Budget (OMB) for Review and Approval; Comment Request; NMFS Alaska Region Vessel Monitoring System (VMS) Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 24, 2020, during a 60-day comment period. This notice allows for an additional 30 days for public comments.

Agency: National Oceanic and Atmospheric Administration.

Title: NMFS Alaska Region Vessel Monitoring System (VMS) Program.

OMB Control Number: 0648-0445.

Form Number(s): None.

Type of Request: Regular submission (extension of a current information collection).

Number of Respondents: 550.

Average Hours per Response: VMS installation, maintenance, and troubleshooting, 12 hours.

Total Annual Burden Hours: 2,476 hours.

Needs and Uses: This request is for an extension of a currently approved information collection. There are no proposed changes to this information collection.

NMFS requires the owners and operators of selected vessels participating in federally managed groundfish and crab fisheries off Alaska to obtain, install, and maintain an operational, NMFS-approved Vessel Monitoring System (VMS). VMS units automatically transmit the location of a vessel several times per hour using a Global Positioning System satellite. The VMS unit is passive and automatic, requiring no reporting effort by the vessel operator. A communications service provider receives the transmission and relays it to NMFS Office for Law Enforcement (OLE).

Tracking vessel location using VMS is required to monitor compliance with area-specific catch allocations, to monitor compliance with requirements to redeploy or remove fishing gear from commercial fishing grounds, and to monitor compliance with complicated time and area closures in the GOA and BSAI designed to protect Steller sea lion or essential fish habitat.

VMS is an essential component of monitoring and management for complicated, geographically widespread fishing closures. NMFS uses information from VMS to identify where vessels are operating, to organize patrols so as to increase the number of fishing vessels visually examined, or to focus examination of vessels of greatest concern, and as evidence in prosecutions.

Affected Public: Individuals or households; Business or other for-profit organizations.

Frequency: On occasion.

Respondent's Obligation: Required to Obtain or Retain Benefit.

Legal Authority: 16 U.S.C.1801 et. seq.; 16 U.S.C. 773-773k.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0445.

Sheleen Dumas,
Department PRA Clearance Officer, Office of the Chief Information Officer, Commerce Department.

[FR Doc. 2020-24721 Filed 11-5-20; 8:45 am]

BILLING CODE 3510-22-P